DEPARTMENT OF HEALTH AND HUMAN SERVICES

[Document Identifier: OS-0937-0025]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before January 19, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 264-0041, or PRA@HHS.GOV. When submitting comments or requesting information, please include the document identifier 0937-0025-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: U.S. Public Health Service Commissioned Corps.

Type of Collection: Extension.

OMB No.: 0937-0025.

Abstract: Under the Department of Health and Human Services, The Commissioned Corps of the U.S. Public Health Service has a need for the information in order to assess the qualifications of each applicant and make a determination whether the applicant meets the requirements to receive a commission. The information is used to make determinations on candidates/applicants seeking appointment to the Regular Corps and Ready Reserve Corps to assess whether they are suitable for life in the uniformed services based upon a review of a variety of assessment factors including, but not limited to personal adjustment, employment history, character, and a candidate's prior history of service in one of the uniformed services. Their potential for leadership as a commissioned officer and their ability to deal effectively with people is evaluated.

Annualized Burden Hour Table
Type of respondent | Form name | Number of Regular Corps respondents | Number of Reserve Corps respondents | Number response per respondent | Average burden per responses (in hours) | Total burden hours
Interested Health Professionals | Prequalification Questionnaire | 6,000 | 1,000 | 1 | 10/60 | 1,167
Health Professionals | Form PHS-50 | 3,000 | 500 | 1 | 15/60 | 875
References (college professors/teachers) | Form PHS-1813 | 3,000 | 500 | 1 | 15/60 | 875
Health Professionals | Addendum: Commissioned Corps Personal Statement | 3,000 | 500 | 1 | 15/60 | 875
Total |  |  |  |  |  | 3,792

Sherrette A. Funn,
Paperwork Reduction Act Reports Clearance Officer, Office of the Secretary.

[FR Doc. 2023-27974 Filed 12-19-23; 8:45 am]

BILLING CODE 4150-49-P